DEPARTMENT OF COMMERCE

INTERNATIONAL TRADE ADMINISTRATION

(A-201-837)

Certain Magnesia Carbon Bricks from Mexico: Notice of Final Determination of Sales at Less Than Fair Value

AGENCY: Import Administration, International Trade Administration, Department of Commerce.

SUMMARY: The Department of Commerce determines that certain magnesia carbon bricks (bricks) from Mexico are being, or are likely to be, sold in the United States at less-than-fair-value (LTFV), as provided in section 735 of the Tariff Act of 1930, as amended (the Act). The estimated margins of sales at LTFV are shown in the “Final Determination Margins” section of this notice.

EFFECTIVE DATE: (August 2, 2010.)

FOR FURTHER INFORMATION CONTACT: David Goldberger or Katherine Johnson, AD/CVD Operations, Office 2, Import Administration, International Trade Administration, U.S. Department of Commerce, 14th Street and Constitution Avenue, NW, Washington, DC 20230; telephone (202) 482-4136 and (202) 482-4929, respectively.

SUPPLEMENTARY INFORMATION:

Background

On March 11, 2010, the Department of Commerce (Department) published in the Federal Register the preliminary determination of sales at LTFV in the antidumping duty investigation of certain magnesia carbon bricks from Mexico. See Certain Magnesia Carbon Bricks from Mexico: Notice of Preliminary Determination of Sales at Less Than Fair Value and Postponement of Final Determination, 75 FR 11517 (March 11, 2010) (Preliminary Determination).

On April 9, 2010, the Department issued a post-preliminary determination analysis for the respondent in this investigation, RHI-Refmex S.A. de C.V. (Refmex) in which the Department applied a quarterly costing methodology to recalculate the cost of production (COP). See Memorandum entitled “Cost of Production and Constructed Value Calculation Adjustments for the Post-Preliminary Analysis RHI-Refmex S.A. de C.V.,” dated April 7, 2010; and Memorandum entitled “Post-Preliminary Determination Analysis Utilizing Quarterly Cost Methodology for Refmex,” dated April 9, 2010. Based on the data and methodology described in these memoranda, we calculated a post-preliminary dumping margin for Refmex of 50.28 percent.

During April and May 2010, we verified the sales and COP questionnaire responses of Refmex. During May 2010, we issued the COP, U.S. sales, and home market sales verification reports. See Memorandum to the File entitled “Verification of the Cost Response of RHI-Refmex S.A. de C.V. in the Antidumping Duty Investigation of Certain Magnesia Carbon Bricks from Mexico,” dated May 10, 2010 (CVR); Memorandum to the File entitled “Verification of the CEP Sales Response of RHI-Refmex S.A. de C.V.,” dated May 12, 2010 (CEPVR); and Memorandum to the File entitled “Verification of the Home Market Sales Response of RHI-Refmex S.A. de C.V.,” dated June 1, 2010 (HMVR).

On June 8 and June 15, 2010, respectively, the petitioner in this investigation, Resco Products Inc, and Refmex each submitted case and rebuttal briefs.

Period of Investigation (POI)

The POI is July 1, 2008, to June 30, 2009. This period corresponds to the four most recent fiscal quarters prior to the month of the filing of the petition. See 19 CFR 351.204(b)(1).

Scope of Investigation

The merchandise under investigation consists of certain chemically-bonded (resin or pitch), magnesia carbon bricks with a magnesia component of at least 70 percent magnesia (MgO) by weight, regardless of the source of raw materials for the MgO, with carbon levels ranging from trace amounts to 30 percent by weight, regardless of enhancements (for example, magnesia carbon bricks can be enhanced with coating, grinding, tar impregnation or coking, high temperature heat treatments, anti-slip treatments or metal casing) and regardless of whether or not antioxidants are present (for example, antioxidants can be added to the mix from trace amounts to 15 percent by weight as various metals, metal alloys, and metal carbides). Certain magnesia carbon bricks that are the subject of this investigation are currently classifiable under subheadings 6902.10.1000, 6902.10.5000, 6815.91.0000, 6815.99.2000, and 6815.99.4000¹ of the Harmonized Tariff Schedule of the United States (HTSUS). While HTSUS subheadings are provided for convenience and customs purposes, the written description is dispositive.

¹ In the Preliminary Determination, we included HTSUS subheading 6815.99 in our description of the scope of the investigation. Subsequently, we determined that all of the ten-digit subheadings under this subheading must be used instead. Accordingly, the HTSUS ten-digit subheadings have been listed.

Analysis of Comments Received

All issues raised in the case and rebuttal briefs submitted by the parties to this investigation are addressed in the “Issues and Decision Memorandum for the Final Determination in the Less-Than-Fair-Value Investigation of Certain Magnesia Carbon Bricks from Mexico” from Edward C. Yang, Acting Deputy Assistant Secretary for Antidumping and Countervailing Duty Operations, to Ronald K. Lorentzen, Deputy Assistant Secretary for Import Administration (Decision Memo), dated July 26, 2010, which is hereby adopted by this notice. A list of the issues that parties have raised and to which we have responded, all of which are in the Decision Memo, is attached to this notice as an appendix. Parties can find a complete discussion of all issues raised in this investigation and the corresponding recommendations in the Decision Memo, which is on file in the Central Records Unit, Room 1117 of the Commerce Department. In addition, a complete version of the Decision Memo can be accessed directly on the Web at http://ia.ita.doc.gov/frn. The paper copy and electronic version of the Decision Memo are identical in content.

Verification

As provided in section 782(i) of the Act, we verified the sales and COP information submitted by Refmex for use in our final determination. We used standard verification procedures including an examination of relevant accounting and production records, and original source documents provided by the respondent. Our sales and cost verification results are outlined in separate verification reports. See CEPVR, HMVR, and CVR. The verification reports are on file and available in the Central Records Unit, Room 1117 of the Commerce Department.

Changes Since the Preliminary Determination

Based on our analysis of the comments received and our findings at verification, we have made certain changes to the margin calculations for Refmex. For a discussion of these changes, see the “Margin Calculations” section of the Decision Memo.

Continuation of Suspension of Liquidation

In accordance with section 735(c)(1)(B) of the Act, we are directing U.S. Customs and Border Protection (CBP) to continue to suspend liquidation of all imports of subject merchandise that are entered or withdrawn from warehouse, for consumption on or after March 11, 2010, the date of publication of the preliminary determination in the Federal Register. We will instruct CBP to continue to require a cash deposit or the posting of a bond for all companies based on the estimated weighted-average dumping margins shown below. The suspension of liquidation instructions will remain in effect until further notice.

Final Determination Margins

We determine that the weighted-average dumping margins are as follows:

Manufacturer/Exporter | Weighted-Average Margin (percent)
RHI-Refmex S.A. de C.V. | 57.90
All Others | 57.90

All-Others Rate

Section 735(c)(5)(A) of the Act provides that the estimated “All Others” rate shall be an amount equal to the weighted average of the estimated weighted-average dumping margins established for exporters and producers individually investigated, excluding any zero and de minimis margins, and any margins determined entirely under section 776 of the Act. Refmex is the only respondent in this investigation for which the Department calculated a company-specific rate. Therefore, for purposes of determining the all-others rate and pursuant to section 735(c)(5)(A) of the Act, we are using the weighted-average dumping margin calculated for Refmex, as referenced above. See, e.g., Notice of Final Determination of Sales at Less Than Fair Value: Stainless Steel Sheet and Strip in Coils From Italy, 64 FR 30750, 30755 (June 8, 1999); and Coated Free Sheet Paper from Indonesia: Notice of Preliminary Determination of Sales at Less Than Fair Value and Postponement of Final Determination, 72 FR 30753, 30757 (June 4, 2007), unchanged in Notice of Final Determination of Sales at Less Than Fair Value: Coated Free Sheet Paper from Indonesia, 72 FR 60636 (October 25, 2007).

Disclosure

We will disclose the calculations performed within five days of the date of publication of this notice to parties in this proceeding in accordance with 19 CFR 351.224(b).

International Trade Commission Notification

In accordance with section 735(d) of the Act, we have notified the International Trade Commission (ITC) of our final determination. As our final determination is affirmative, the ITC will determine within 45 days whether imports of the subject merchandise are causing material injury, or threat of material injury, to an industry in the United States. If the ITC determines that material injury or threat of injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Return or Destruction of Proprietary Information

This notice will serve as the only reminder to parties subject to administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 735(d) and 777(i) of the Act.

Dated: July 26, 2010.
Ronald K. Lorentzen,
Deputy Assistant Secretary for Import Administration.

Appendix--Issues in Decision Memo

Comments

Comment 1: Exclusion of Functional Magnesia Carbon Brick Products from the Scope

Comment 2: CEP Offset

Comment 3: Adjustments to COP Data

Comment 4: Treatment of Full Line Service Contract Transactions

Comment 5: Movement Expenses

Comment 6: Home Market Price Adjustments

Comment 7: Adjustments to U.S. Sales Prices

Comment 8: Indirect Selling Expenses Incurred in Mexico

[FR Doc. 2010-18925 Filed 7-30-10; 8:45 am]

BILLING CODE 3510-DS-S